DEPARTMENT OF ENERGY

Federal Energy Regulatory Commission

[Project No. 13234-001]

City and Borough of Sitka

Notice of Request To Use Alternative Procedures in Preparing a License Application

March 24, 2009.

Take notice that the following request to use alternative procedures to prepare a license application has been filed with the Commission.

a. Type of Application: Request to use alternative procedures to prepare an original license application.

b. Project No.: 13234-001

c. Date filed: March 20, 2009

d. Applicant: City and Borough of Sitka

e. Name of Project: Takatz Lake Hydroelectric Project

f. Location: On the Takatz Lake and Takatz Creek, approximately 20 miles east of the City of Sitka, Alaska, on east side of Baranof Island. The project would occupy federal lands within the Tongass National Forest, administered by the U.S. Forest Service.

g. Filed Pursuant to: Federal Power Act, 16 U.S.C. 791(a)-825(r).

h. Applicant Contact: Christopher Brewton, Utility Manager, City and Borough of Sitka, Electric Department, 105 Jarvis Street, Sitka, Alaska 98335, (907) 747-1870, chrisb@cityofsitka.com.

i. FERC Contact: Joseph Adamson, phone at (202) 502-8085; e-mail at joseph.adamson@ferc.gov.

j. Deadline for Comments: 30 days from the date of this notice.

All documents (original and eight copies) should be filed with: Kimberly D. Bose, Secretary, Federal Energy Regulatory Commission, 888 First Street, NE., Washington, DC 20426.

Comments may be filed electronically via the Internet in lieu of paper. The Commission strongly encourages electronic filings. See 18 CFR 385.2001(a)(1)(iii) and the instructions on the Commission's Web site (http://www.ferc.gov) under the “e-Filing” link.

k. The project would consist of a 200-foot-high primary concrete arch dam with spillway and parapet wall that would raise the elevation of the existing lake; 30-foot-high secondary saddle dam; an impoundment with a 740-acre surface area at a full pool elevation of 1,040 feet mean sea level, with an active capacity of 82,000 acre-feet; an approximately 4-mile-long access road; a 2,800-foot-long, 6.5-foot by 7-foot modified unlined horseshoe tunnel fed by an intake into a 72-inch-diameter 1,000-foot-long steel penstock leading to a powerhouse containing two Francis-type generating units, having a total installed capacity of 27,700 kilowatts; an approximately 21-mile-long, 115 kilovolt (kv) or 138 kv transmission line that consists of a combination of submarine, overhead, and underground segments.

l. A copy of the request to use alternative procedures is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

You may also register online at http://www.ferc.gov/docs-filing/esubscription.asp to be notified via e-mail of new filings and issuances related to this or other pending projects. For assistance, contact FERC Online Support.

m. The City and Borough of Sitka has demonstrated that it has made an effort to contact all federal and state resources agencies, non-governmental organizations (NGO), and others affected by the project. The City and Borough of Sitka has also demonstrated that a consensus exists that the use of alternative procedures is appropriate in this case. The City and Borough of Sitka has submitted a communications protocol that is supported by the stakeholders.

The purpose of this notice is to invite any additional comments on the City and Borough of Sitka's request to use the alternative procedures, pursuant to section 4.34(i) of the Commission's regulations. Additional notices seeking comments on the specific project proposal, interventions and protests, and recommended terms and conditions will be issued at a later date. The City and Borough of Sitka will complete and file a preliminary Environmental Assessment, in lieu of Exhibit E of the license application. This differs from the traditional process, in which an applicant consults with agencies, Indian tribes, NGOs, and other parties during preparation of the license application and before filing the application, but the Commission staff performs the environmental review after the application is filed. The alternative procedures are intended to simplify and expedite the licensing process by combining the pre-filing consultation and environmental review processes into a single process, to facilitate greater participation, and to improve communication and cooperation among the participants.

The City and Borough of Sitka has met with federal and state resources agencies regarding the proposed Takatz Lake Hydroelectric Project. The City and Borough of Sitka intends to file 6-month progress reports during the alternative procedures process that leads to the filing of a license application by September 2011.

Kimberly D. Bose,
Secretary.

[FR Doc. E9-7079 Filed 3-30-09; 8:45 am]

BILLING CODE